DEPARTMENT OF THE INTERIOR

National Park Service

[NPS-WASO-NRNHL-DTS#-29970; PPWOCRADI0, PCU00RP14.R50000]

National Register of Historic Places; Notification of Pending Nominations and Related Actions

AGENCY: National Park Service, Interior.

ACTION: Notice.

SUMMARY: The National Park Service is soliciting comments on the significance of properties nominated before February 29, 2020, for listing or related actions in the National Register of Historic Places.

DATES: Comments should be submitted by April 7, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 29, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Douglas County

Bayou Gulch, Address Restricted, Franktown vicinity, SG100005167

MICHIGAN

Wayne County

Michigan Avenue Historic Commercial District, South side of 3301-3461 Michigan Ave., Detroit, SG100005169

NORTH DAKOTA

Burleigh County

Our Lady of the Annunciation Chapel at Annunciation Priory, 7500 University Dr., Bismarck, SG100005177

UTAH

Davis County

Parrish, Joel and Elizabeth, House, 420 North Main St., Centerville, SG100005174

Salt Lake County

Rosenbaum, Edward and Harriet, House, 1428 East Circle Way, Salt Lake City, SG100005175

Sanpete County

Cox Family Big House Complex, 98 North 100 West, Manti, SG100005176

WISCONSIN

Dane County

Sylvan Avenue—Ridge Road Historic District, Roughly bounded by South Franklin St., Ridge Rd., Glenway St., and Sylvan Ave., Madison, SG100005173

Nomination submitted by Federal Preservation Officer:

The State Historic Preservation Officer reviewed the following nomination and responded to the Federal Preservation Officer within 45 days of receipt of the nomination and supports listing the property in the National Register of Historic Places.

NEW YORK

Broome County

United States Post Office and Courthouse, 15 Henry St., Binghamton, SG100005168

Authority: Section 60.13 of 36 CFR part 60.

Dated: March 2, 2020.
Julie H. Ernstein,
Supervisory Archeologist, National Register of Historic Places/National Historic Landmarks Program.

[FR Doc. 2020-05980 Filed 3-20-20; 8:45 am]

BILLING CODE 4312-52-P